DEPARTMENT OF JUSTICE

[AAG/A Order No. 198-2000]

Privacy Act of 1974; System of Records

The Department of Justice proposes to modify the Office of the Inspector General Investigative Records System, JUSTICE/OIG-001, last published in the Federal Register on March 10, 1992 (57 FR 8476). The primary purpose of the system is to enable the Department's Office of the Inspector General to conduct its responsibilities under the Inspector General Act of 1978, as amended by the Inspector General Act Amendments of 1988, 5 U.S.C. App. 3, including its responsibility to conduct and supervise investigations relating to programs and operations of the Department. The Department now proposes to modify the system by adding one new routine use, revising two existing routine uses, and making other minor revisions.

New routine use (i) will permit the Department to share information about investigations with complainants and victims in order to inform them about the progress and results of investigations arising from the matters of which they complained or were the victim.

In addition, two current routine uses are being revised. First, routine use (a) relating to disclosures of records indicating a violation or potential violation of law or contract to those entities responsible for investigating, prosecuting or enforcing those laws or contracts is being revised to make it clear that disclosure extends both to records that indicate such a violation or potential violation standing alone and to records that do so only when viewed in combination with other documents. Second, routine use (d) relating to disclosures made to other entities in connection with the assignment, hiring, retention, issuance or revocation of a security clearance, reporting of an investigation, letting of a contract, or the issuance or revocation of a license, grant, or other benefit to an individual by those entities is being modified in two respects: (1) To eliminate the requirement that information may be released only upon the request of a specified entity and (2) to permit information pertinent to the issuance or retention of a professional license to be shared with the relevant professional licensing organization.

Finally, the Department is making minor revisions to the ‘System Location,’ ‘Retirevability,’ ‘System Manager and Address,’ and ‘Retention and Disposal’ sections to reflect current conditions. A typographical error in routine use (h) as it was originally published in the Federal Register (57 FR 8477), is also being corrected.

5 U.S.C. 552a(e)(4) and (11) provide that the public be given thirty days in which to comment on these proposed changes. Any comments must be submitted in writing to Mary Cahill, Management Analyst, Management and Planning Staff, Justice Management Division, Department of Justice, Washington, DC 20530 by June 21, 2000.

As required by 5 U.S.C. 552(r) and Office of Management and Budget (OMB) implementing regulations, the Department of Justice has provided a report on the proposed changes to OMB and the Congress.

A modified system description is set forth below.

Dated: May 8, 2000.
Stephen R. Colgate,
Assistant Attorney General for Administration.

JUSTICE/OIG-001

System name:

Office of the Inspector General Investigative Records.

System location:

U.S. Department of Justice, Office of the Inspector General, 950 Pennsylvania Ave., NW, Washington, DC 20530-0001 and 1425 New York Ave., NW, Suite 7100, Washington, DC 20530. During the course of an investigation, records are also kept in the investigations field offices, the addresses of which are listed on the OIG's website at http://www.usdoj.gov/org.

* * * * *

ROUTINE USES OF RECORDS MAINTAINED IN THE SYSTEM, INCLUDING CATEGORIES OF USERS AND THE PURPOSES OF SUCH USES:

* * * * *

(a) In the event that a record, either by itself or in combination with other information, indicates a violation or potential violation of law, whether civil, criminal, or regulatory in nature, and whether arising by general stature or particular program statute, or by rule, regulation, or order pursuant thereto, or a violation or potential violation of a contract, the relevant record may be disclosed to the appropriate agency, whether Federal, state, local, foreign, or international, charged with the responsibility or investigating or prosecuting such violation, enforcing or implementing such statute, rule, regulation, or order, or with enforcing such contract.

* * * * *

(d) A record may be disclosed to a Federal, State, local, foreign, or international agency, or other public authority or professional licensing organization, in connection with the assignment, hiring, or retention of an individual, the issuance or revocation of a security clearance, the reporting of an investigation of an individual, the letting of a contract, or the issuance or revocation of a license, grant, or other benefit by such an entity, to the extent that the information is relevant and necessary to that entity's decision on the matter. No disclosure will be made under this paragraph unless the Inspector General or his designee determines that the information is sufficiently reliable to support a referral to another office within the Department of Justice or to another Federal, state, or local agency for criminal, civil, administrative, personnel, or regulatory action.

* * * * *

(h) Information permitted to be released to the news media and the public pursuant to 28 CFR 50.2 may be made available, unless it is determined that release of the specific information in the context of a particular case would constitute an unwarranted invasion of personal privacy.

(i) Information may be disclosed to complainants and victims to the extent necessary to provide them with information concerning the progress or results of the investigation or case arising from the matters of which they complained or were the victim.

* * * * *

Retrievability:

Each OIG investigation is assigned a case number and all records relating to a particular investigation are filed and retrieved by that case number. In some instances, records may also be retrievable by the surnames of subjects, witnesses, and/or complaintants.

* * * * *

Retention and disposal:

Records in this system are retained and disposed of in accordance with the schedule approved by the Archivist of the United States, Job Number NI-60-97-4.

System manager(s) and address:

Office of the General Counsel, Office of the Inspector General, Department of Justice, 950 Pennsylvania Avenue, NW, Room 4261, Washington, DC 20530-0001.

* * * * *

[FR Doc. 00-12735 Filed 5-19-00; 8:45 am]

BILLING CODE 4410-CJ-M